DEPARTMENT OF TRANSPORTATION

Federal Aviation Administration

14 CFR Part 141

[Docket No. FAA-2006-26661; Amendment No., 141-14]

RIN 2120-AI86

Pilot, Flight Instructor, and Pilot School Certification

AGENCY: Federal Aviation Administration, DOT.

ACTION: Final rule; technical amendment.

SUMMARY: The Federal Aviation Administration (FAA) is making minor technical changes to a final rule published in the Federal Register on August 21, 2009. That final rule revised the training, qualification, certification, and operating requirements for pilots, flight instructors, ground instructors, and pilot schools. Through this technical amendment, we are clarifying the intent of § 141.5(d) and reinserting language that was inadvertently removed pertaining to special courses of training under appendix K of part 141.

DATES: This technical amendment is effective September 17, 2010.

FOR FURTHER INFORMATION CONTACT: Craig Holmes, Airmen Certification and Training Branch, AFS-810, General Aviation and Commercial Division, Flight Standards Service, Federal Aviation Administration, 800 Independence Avenue, SW., Washington, DC 20591; telephone (202) 493-5385; e-mail to craig.holmes@faa.gov.

For legal interpretative questions about this final rule, contact: Anne Moore, AGC-240, Office of Chief Counsel, Regulations Division, Federal Aviation Administration, (202) 267-3123; e-mail to anne.moore@faa.gov.

SUPPLEMENTARY INFORMATION:

Background

On August 21, 2009, the FAA published the “Pilot, Flight Instructor, and Pilot School Certification; Final Rule” (74 FR 12500), which revised the training, qualification, certification, and operating requirements for pilots, flight instructors, ground instructors, and pilot schools. The FAA is now issuing a technical amendment to § 141.5(d) to clarify the original intent of the final rule and reinsert language that was inadvertently removed pertaining to special courses of training under appendix K of part 141.

Discussion of Technical Amendment

Section 141.5(d) establishes the quality of training standard that a provisional pilot school must meet in order to obtain a non-provisional pilot school certificate. In addition, § 141.83 requires each pilot school and provisional pilot school to meet the quality of training requirements set forth in § 141.5(d) in order to have a certificate renewed under § 141.27(a)(2).

Prior to the August 2009 rule change, § 141.5(d) permitted issuance of a pilot school certificate if the applicant (1) trained and recommended at least 10 students for a knowledge or practical test for a pilot certificate, flight instructor certificate, ground instructor certificate, an additional rating, and end-of-course test for a training course specified in appendix K to this part, and (2) achieved an 80% pass rate on the first attempt for all tests administered during the preceding 24-month period.

Due to confusion over whether the 10 students in paragraph (d) had to be 10 different people or could be one person who completed 10 training courses, the FAA sought to clarify § 141.5 in the August 2009 final rule by adding paragraph (e), which requires a pilot school to have “graduated at least 10 different people from the school's approved training courses” in the 24-month period preceding the date of the application for a pilot school certificate. Paragraph (e) was intended to clarify the “quantity” of training that must take place in order for a pilot school to warrant certification under part 141. The FAA explained in the preamble that a pilot school could not use a single person who completes ten different training courses to satisfy the quantity of training standard set forth in paragraph (e).

Having clarified the “quantity of training” through a separate requirement in paragraph (e), the FAA had intended for paragraph (d) to address the “quality of training” required for issuance or renewal of a pilot school certificate. As amended in the August 2009 final rule, paragraph (d) requires a pilot school applicant to have “trained and recommended at least 10 different people for a knowledge test or a practical test, or any combination thereof, and at least 80 percent of those persons passed their tests on the first attempt.” The FAA stated in the preamble that the requirement that “at least 80 percent of those persons passed their test on the first attempt is not a change from the existing rule.” 74 FR 42500, 42538.

The use of the phrase “at least 10 different people” in paragraph (d), however, unfortunately was not removed and caused confusion regarding whether the 80 percent pass rate is based only on the test results of those 10 different people or, as stated in the preamble, on “all tests administered.” In addition to this confusion, the FAA removed, without explanation, the language pertaining to the “end-of-course test for a training course specified in appendix K[.]” This omission was unintended. Certain certificated part 141 pilot schools offer only specialized courses that do not result in a certificate or rating. As such, these courses do not lead to completion of the “knowledge or practical test” currently referenced in § 141.5(d).

In this technical amendment, the FAA is revising the language of § 141.5(d) to clarify that in order to meet the quality of training standard for issuance or renewal of a pilot school certificate, a pilot school must achieve a combined 80 percent pass rate for all (1) knowledge tests and practical tests leading to a certificate or rating, and (2) end-of-course tests for appendix K courses must be passed on the first attempt.

As such, if a provisional pilot school does not train and recommend 10 different people for knowledge tests, practical tests, and end-of-course tests for approved appendix K courses, then the school's pass rate is irrelevant because the school failed to meet the minimum threshold for establishing its pass rate. In addition, the technical amendment clarifies that, although the smallest possible testing pool is 10 different people, the total testing pool for a particular school consists of all knowledge tests, practical tests, and end-of-course tests for approved appendix K that were administered in the prior 24-month period. For those schools that seek renewal of non-provisional pilot school certificates, they must continue to meet, by reference in § 141.83, the quality of training standard set forth in § 141.5(d).

This rule clarifies existing requirements and reinserts language that was inadvertently removed. Because the changes in this technical amendment result in no substantive change, we find good cause exists under 5 U.S.C. 553(d)(3) to make the amendment effective in less than 30 days.

List of Subjects in 14 CFR Part 141

Administrative practice and procedure, Air carriers, Aircraft, Aviation safety, Charter flights, Reporting and recordkeeping requirements.

The Amendment

Accordingly, title 14 of the Code of Federal Regulations (CFR) part 141 is amended as follows:

PART 141—PILOT SCHOOLS

1. The authority citation for part 141 continues to read as follows:

Authority: 49 U.S.C. 106(g), 40113, 44701-44703, 44707, 44709, 44711, 45102-45103, 45301-43502.

2. Amend § 141.5 by revising paragraphs (d) and (e) to read as follows:

§ 141.5 Requirements for a pilot school certificate.

* * * * *

(d) Has established a pass rate of 80 percent or higher on the first attempt for all knowledge tests leading to a certificate or rating, practical tests leading to a certificate or rating, or end-of-course tests for an approved training course specified in appendix K of this part.

(e) Has graduated at least 10 different people from the school's approved training courses.

Issued in Washington, DC on September 14, 2010.
Pamela Hamilton-Powell,
Director, Office of Rulemaking.

[FR Doc. 2010-23283 Filed 9-16-10; 8:45 am]

BILLING CODE 4910-13-P